DEPARTMENT OF TRANSPORTATION

Federal Aviation Administration

14 CFR Part 39

[Docket No. FAA-2010-1307; Directorate Identifier 2010-NM-049-AD]

RIN 2120-AA64

Airworthiness Directives; Bombardier, Inc. Model CL-600-2A12 (CL-601) and CL-600-2B16 (CL-601-3A, CL-601-3R, and CL-604 Variants) Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as

:

During flight-testing of a wing anti-ice piccolo tube containing a deliberate small breach, it was determined that the wing leading edge thermal switches were not detecting the consequent bleed leak at the design threshold. As a result, new Airworthiness Limitation tasks, consisting of a functional test of the wing leading edge thermal switches and an inspection of the wing anti-ice duct piccolo tubes, have been introduced in order to limit exposure to dormant failure of the switches in the event of piccolo tube failure, which could potentially compromise the structural integrity of the wing leading edge and the effectiveness of the wing anti-ice system.

The proposed AD would require actions that are intended to address the unsafe condition described in the MCAI.

DATES: We must receive comments on this proposed AD by February 22, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC, between 9 a.m. and 5 p.m., Monday through Friday, except Federal holidays.

For service information identified in this proposed AD, contact Bombardier, Inc., 400 Côte-Vertu Road West, Dorval, Québec H4S 1Y9, Canada; telephone 514-855-5000; fax 514-855-7401; e-mail thd.crj@aero.bombardier.com; Internet http://www.bombardier.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Cesar Gomez, Aerospace Engineer, Airframe and Mechanical Systems Branch, ANE-171, FAA, New York Aircraft Certification Office, 1600 Stewart Avenue, Suite 410, Westbury, New York 11590; telephone (516) 228-7318; fax (516) 794-5531.

SUPPLEMENTARY INFORMATION:

Comments Invited

We invite you to send any written relevant data, views, or arguments about this proposed AD. Send your comments to an address listed under the ADDRESSES section. Include “Docket No. FAA-2010-1307; Directorate Identifier 2010-NM-049-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

Transport Canada Civil Aviation, which is the aviation authority for Canada, has issued Canadian Airworthiness Directive CF-2009-49R1, dated January 21, 2010 (referred to after this as “the MCAI”), to correct an unsafe condition for the specified products. The MCAI states:

During flight-testing of a wing anti-ice piccolo tube containing a deliberate small breach, it was determined that the wing leading edge thermal switches were not detecting the consequent bleed leak at the design threshold. As a result, new Airworthiness Limitation tasks, consisting of a functional test of the wing leading edge thermal switches and an inspection of the wing anti-ice duct piccolo tubes, have been introduced in order to limit exposure to dormant failure of the switches in the event of piccolo tube failure, which could potentially compromise the structural integrity of the wing leading edge and the effectiveness of the wing anti-ice system. This directive mandates the revision of the approved maintenance schedule to include these new tasks, including phase-in schedules.

This revision clarifies the applicability of the directive for CL-600-2A12 aircraft, serial numbers 3001 through 3066, and for CL-600-2B16 aircraft, serial numbers 5001 through 5194. The directive is only applicable to these aircraft if Bombardier Service Bulletin (SB) 601-0590 [Scheduled Maintenance Instructions (MSG-3) Derived—Qualification] has been incorporated. There is no change required to the approved maintenance schedule if SB 601-0590 has not been incorporated.

You may obtain further information by examining the MCAI in the AD docket.

Relevant Service Information

Bombardier has issued the following service information:

• Challenger 601 Time Limits/Maintenance Checks, PSP 601-5, Revision 38, dated June 19, 2009.

• Challenger 601 Time Limits/Maintenance Checks, PSP 601A-5, Revision 34, dated June 19, 2009.

• Challenger 604 Time Limits/Maintenance Checks, CH 604 TLMC, Revision 13, dated August 12, 2009.

• Challenger 605 Time Limits/Maintenance Checks, CH 605 TLMC, Revision 1, dated August 12, 2009.

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 103 products of U.S. registry. We also estimate that it would take about 1 work-hour per product to comply with the basic requirements of this proposed AD. The average labor rate is $85 per work-hour. Based on these figures, we estimate the cost of the proposed AD on U.S. operators to be $8,755, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Bombardier, Inc.: Docket No. FAA-2010-1307; Directorate Identifier 2010-NM-049-AD.

Comments Due Date

(a) We must receive comments by February 22, 2011.

Affected ADs

(b) None.

Applicability

(c) This AD applies to the airplanes identified in paragraphs (c)(1), (c)(2), (c)(3), and (c)(4) of this AD; certificated in any category.

(1) Bombardier, Inc. Model CL-600-2A12 (CL-601) airplanes, serial numbers 3001 through 3066 inclusive on which Bombardier Service Bulletin 601-0590 has been accomplished.

(2) Bombardier, Inc. CL-600-2B16 (CL-601-3A and CL-601-3R Variants) airplanes, serial numbers 5001 through 5194 inclusive on which Bombardier Service Bulletin 601-0590 has been accomplished.

(3) Bombardier, Inc. CL-600-2B16 (CL-604 Variants) airplanes, serial numbers 5301 through 5665 inclusive.

(4) Bombardier, Inc. CL-600-2B16 (CL-604 Variants) airplanes, serial numbers 5701 and subsequent.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (j) of this AD. The request should include a description of changes to the required inspections that will ensure the continued operational safety of the airplane.

Subject

(d) Air Transport Association (ATA) of America Codes 30 and 36: Ice and Rain Protection and Pneumatic, respectively.

Reason

(e) The mandatory continuing airworthiness information (MCAI) states:

During flight-testing of a wing anti-ice piccolo tube containing a deliberate small breach, it was determined that the wing leading edge thermal switches were not detecting the consequent bleed leak at the design threshold. As a result, new Airworthiness Limitation tasks, consisting of a functional test of the wing leading edge thermal switches and an inspection of the wing anti-ice duct piccolo tubes, have been introduced in order to limit exposure to dormant failure of the switches in the event of piccolo tube failure, which could potentially compromise the structural integrity of the wing leading edge and the effectiveness of the wing anti-ice system.

Compliance

(f) You are responsible for having the actions required by this AD performed within the compliance times specified, unless the actions have already been done.

Actions

(g) Within 30 days after the effective date of this AD: Revise the Airworthiness Limitations Section of the Instructions for Continued Airworthiness by incorporating the applicable tasks identified in table 1 of this AD.

Table 1—Airworthiness Limitations Tasks
For Bombardier, Inc. model— | Incorporate task(s)— | Identified in—
CL-600-2A12 (CL-601) airplanes, serial numbers 3001 through 3066 inclusive on which Bombardier Service Bulletin 601-0590 has been accomplished | 30-11-00-101 and 30-11-00-102 | Bombardier Challenger 601 Time Limits/Maintenance Checks, PSP 601-5, Revision 38, dated June 19, 2009.
CL-600-2B16 (CL-601-3A and CL-601-3R Variants) airplanes, serial numbers 5001 through 5194 inclusive on which Bombardier Service Bulletin 601-0590 has been accomplished | 30-11-00-101 and 30-11-00-102 | Bombardier Challenger 601 Time Limits/Maintenance Checks, PSP 601A-5, Revision 34, dated June 19, 2009.
CL-600-2B16 (CL-604 Variants) airplanes, serial numbers 5301 through 5665 inclusive | 30-11-00-101 and 36-21-00-101 | Bombardier Challenger 604 Time Limits/Maintenance Checks, CH 604 TLMC, Revision 13, dated August 12, 2009.
CL-600-2B16 (CL-604 Variants) airplanes, serial numbers 5701 and subsequent | 30-11-00-101 and 36-21-00-101 | Bombardier Challenger 605 Time Limits/Maintenance Checks, CH 605 TLMC, Revision 1, dated August 12, 2009.

(h) For all tasks identified in paragraph (g) of this AD, the initial compliance times for those tasks are within the applicable times specified in table 2 of this AD.

Table 2—Initial Compliance Times for Airworthiness Limitations Tasks
Bombardier, Inc. model— | Task(s)— | Initial compliance time (whichever occurs later)—
CL-600-2A12 (CL-601) airplanes, serial numbers 3001 through 3066 inclusive; and CL-600-2B16 (CL-601-3A and CL-601-3R Variants) airplanes, serial numbers 5001 through 5194 inclusive; on which Bombardier Service Bulletin 601-0590 has been accomplished | 30-11-00-101 | Prior to the accumulation of 4,800 total flight hours; or within 4,800 flight hours after accomplishing Task 30-11-06-204 in Section 5-20-15 of the applicable Time Limits/Maintenance Checks manual; whichever occurs later | Within 240 flight hours after the effective date of this AD.
CL-600-2A12 (CL-601) airplanes, serial numbers 3001 through 3066 inclusive; and CL-600-2B16 (CL-601-3A and CL-601-3R Variants) airplanes, serial numbers 5001 through 5194 inclusive; on which Bombardier Service Bulletin 601-0590 has been accomplished | 30-11-00-102 | Prior to the accumulation of 4,800 total flight hours; or within 4,800 flight hours after accomplishing Task 30-13-00-205 in Section 5-20-15 of the applicable Time Limits/Maintenance Checks manual; whichever occurs later | Within 240 flight hours after the effective date of this AD.
CL-600-2B16 (CL-604 Variants) airplanes, serial numbers 5301 through 5665 inclusive | 30-11-00-101 and 36-21-00-101 | Prior to the accumulation of 6,400 total flight hours; except for airplanes having 6,400 total flight hours or more as of the effective date of this AD on which the task has not been accomplished: Prior to the next scheduled 6,400 flight hour task inspection or prior to the next scheduled accomplishment of Task 57-10-00-208 in the applicable Time Limits/Maintenance Checks manual, whichever occurs first | Within 320 flight hours after the effective date of this AD.
CL-600-2B16 (CL-604 Variants) airplanes, serial numbers 5701 and subsequent | 30-11-00-101 and 36-21-00-101 | Prior to the accumulation of 6,400 total flight hours | Within 320 flight hours after the effective date of this AD.

(i) After accomplishing the actions required by paragraph (g) of this AD, no alternative tasks or task intervals may be used unless the tasks or intervals are approved as an alternative method of compliance (AMOC) in accordance with the procedures specified in paragraph (j)(1) of this AD.

FAA AD Differences

Note 2: This AD differs from the MCAI and/or service information as follows: No differences.

Other FAA AD Provisions

(j) The following provisions also apply to this AD:

(1) Alternative Methods of Compliance (AMOCs): The Manager, New York Aircraft Certification Office, ANE-170, FAA, has the authority to approve AMOCs for this AD, if requested using the procedures found in 14 CFR 39.19. Send information to ATTN: Program Manager, Continuing Operational Safety, FAA, New York ACO, 1600 Stewart Avenue, Suite 410, Westbury, New York 11590; telephone 516-228-7300; fax 516-794-5531. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A Federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Related Information

(k) Refer to MCAI Canadian Airworthiness Directive CF-2009-49R1, dated January 21, 2010, and the service information specified in Table 1 of this AD for related information.

Issued in Renton, Washington, on December 27, 2010.
Jeffrey E. Duven,
Acting Manager, Transport Airplane Directorate, Aircraft Certification Service.

[FR Doc. 2010-33329 Filed 1-4-11; 8:45 am]

BILLING CODE 4910-13-P